DEPARTMENT OF COMMERCE

International Trade Administration

[A-570-918]

Steel Wire Garment Hangers From the People's Republic of China: Final Results of Antidumping Duty Administrative Review, 2010-2011

AGENCY: Import Administration, International Trade Administration, Department of Commerce.

SUMMARY: The Department of Commerce (“the Department”) published the preliminary results of the third administrative review of the antidumping duty order on steel wire garment hangers from the People's Republic of China (“PRC”) on November 8, 2012.¹ We gave interested parties an opportunity to comment on the Preliminary Results. Based upon our analysis of the comments and information received, we made no changes to the margin calculations for these final results. The final dumping margins are listed below in the “Final Results of the Administrative Review” section of this notice. The period of review (“POR”) is October 1, 2010, through September 30, 2011.

¹ See Steel Wire Garment Hangers from the People's Republic of China: Antidumping Duty Administrative Review, 2010-2011, 77 FR 66952 (November 8, 2012) (“Preliminary Results”), and accompanying Decision Memorandum.

DATES: Effective Date: May 16, 2013.

FOR FURTHER INFORMATION CONTACT: Alan Ray, AD/CVD Operations, Office 9, Import Administration, International Trade Administration, U.S. Department of Commerce, 14th Street and Constitution Avenue NW., Washington, DC 20230; telephone (202)-482-5403.

SUPPLEMENTARY INFORMATION:

Background

The Department published the Preliminary Results on November 8, 2012.² Between December 5, 2012 and December 17, 2012, interested parties submitted surrogate value data for consideration in the final results. On January 4, 2013, M&B Metal Products Inc. (“Petitioner”), submitted a case brief.³ On January 9, 2013, Fabriclean Supply Inc. (“Fabriclean”), a U.S. importer and wholesaler, submitted a rebuttal brief.⁴ On January 14, 2013, the Department extended the final results to May 7, 2013.⁵

² See id.

³ See Letter from Petitioner, Third Administrative Review of Steel Wire Garment Hangers from China—Petitioner's Case Brief, dated January 4, 2013.

⁴ See Letter from Fabriclean, Steel Wire Garment Hangers from China: Rebuttal Brief, dated January 9, 2013.

⁵ See Memorandum to Christian Marsh, Deputy Assistant Secretary for Antidumping and Countervailing Duty Operations, through James Doyle, Office Director, from Kabir Archuletta, Case Analyst, “Steel Wire Garment Hangers from the People's Republic of China: Extension of Deadline for Final Results of Antidumping Duty Administrative Review,” dated January 14, 2013.

Scope of the Order

The merchandise that is subject to the order is steel wire garment hangers. The products subject to the order are currently classified under U.S. Harmonized Tariff Schedule (“HTSUS”) subheadings 7326.20.0020, 7323.99.9060, and 7323.99.9080. Although the HTSUS subheadings are provided for convenience and customs purposes, the written description of the merchandise as set forth in the order remains dispositive.⁶

⁶ See Notice of Antidumping Duty Order: Steel Wire Garment Hangers from the People's Republic of China, 73 FR 58111 (October 6, 2008).

Analysis of Comments Received

All issues raised in the case and rebuttal briefs by interested parties in this review are addressed in the Issues and Decision Memorandum.⁷ A list of the issues which parties raised is attached to this notice as an Appendix. The Issues and Decision Memorandum is a public document and is on file in the Central Records Unit (“CRU”), room 7046 of the main Department of Commerce building, as well as electronically via Import Administration's Antidumping and Countervailing Duty Centralized Electronic Service System (“IA ACCESS”). IA ACCESS is available to registered users at http://iaaccess.trade.gov and in the CRU. In addition, a complete version of the Issues and Decision Memorandum can be accessed directly on the internet at http://www.trade.gov/ia/. The signed Issues and Decision Memorandum and the electronic versions of the Issues and Decision Memorandum are identical in content.

⁷ See Memorandum from Christian Marsh, Deputy Assistant Secretary for Antidumping and Countervailing Duty Operations, to Paul Piquado, Assistant Secretary for Import Administration, titled “Steel Wire Garment Hangers from the People's Republic of China: Issues and Decision Memorandum for the Final Results of the Third Administrative Review,” dated concurrently with this notice (“Issues and Decision Memorandum”) and hereby adopted by this notice.

Changes Since the Preliminary Results

There have been no changes since Preliminary Results.

Non-Market Economy Country

The PRC has been treated as a non-market economy (“NME”) in every proceeding conducted by the Department. In accordance with section 771(18)(C)(i) of the Tariff Act of 1930, as amended (“the Act”), any determination that a foreign country is an NME shall remain in effect until revoked by the administering authority. The Department has not revoked the PRC's status as an NME and, accordingly, applied the NME methodology.

Separate Rates

In the Preliminary Results, the Department determined that the companies that constitute the Shanghai Wells Group ⁸ were affiliated, would be treated as a single entity, and met the criteria for separate rate status.⁹ At that time, the Department also determined that the following companies failed to demonstrate their eligibility for a separate rate: Shangyu Baoxiang Metal Manufactured Co., Ltd. (“Shangyu Baoxiang”); Zhejiang Lucky Cloud Hanger Co., Ltd. (“Lucky Hanger”); Shaoxing Zhongbao Metal Manufactured Co., Ltd. (“Shaoxing Zhongbao”); Shaoxing Shunji Metal Clotheshorse Co., Ltd. (“Shaoxing Shunji”); Pu Jiang County Command Metal Products Co., Ltd (“Pu Jiang”); and Shaoxing Liangbao Metal Manufactured Co., Ltd. (“Shaoxing Liangbao”).¹⁰ We have not received any information since the issuance of the Preliminary Results that provides a basis for reconsideration of these determinations. Therefore, the Department continues to find that only the Shanghai Wells Group satisfies the criteria for a separate rate and will be treated as a single entity.

⁸ The Department previously found that Shanghai Wells Hanger Co., Ltd. (“Shanghai Wells”), Hong Kong Wells Ltd. (“HK Wells”) and Hong Kong Wells Ltd. (USA) (“Wells USA”) are affiliated and that Shanghai Wells and HK Wells comprise a single entity (collectively, “Shanghai Wells Group”). Because there were no changes in this review, we continue to find Shanghai Wells, HK Wells, and USA Wells are affiliated and that Shanghai Wells and HK Wells comprise a single entity. See Steel Wire Garment Hangers From the People's Republic of China: Preliminary Results and Preliminary Rescission, in Part, of the First Antidumping Duty Administrative Review, 75 FR 68758, 68761 (November 9, 2010), unchanged in First Administrative Review of Steel Wire Garment Hangers From the People's Republic of China: Final Results and Final Partial Rescission of Antidumping Duty Administrative Review, 76 FR 27994, 27996 (May 13, 2011).

⁹ See Decision Memorandum at “Separate Rate Recipients”.

¹⁰ Id., at “Separate Rates” section.

PRC-Wide Entity and the PRC-Wide Rate

In the Preliminary Results, we determined that those companies which did not demonstrate eligibility for a separate rate are properly considered part of the PRC-Wide Entity.¹¹ Since the Preliminary Results, none of the companies which did not file separate-rate applications or certifications submitted comments regarding this finding. Therefore, we continue to treat these entities as part of the PRC-Wide Entity.

¹¹ Id., at “PRC-Wide Entity and Selection of Adverse Facts Available (“AFA”) Rate” sections.

In the Preliminary Results, the Department calculated the PRC-Wide Entity Rate using adverse facts available (“AFA”) because (1) the PRC-Wide Entity withheld requested information, failed to provide information in a timely manner and in the form requested, and significantly impeded this proceeding and (2) the PRC-Wide Entity failed to cooperate to the best of its ability.¹² In so doing, and consistent with our practice, the Department relied upon the highest rate on the record of any segment of the proceeding—187.25 percent.¹³ The Department also corroborated that rate, consistent with section 776(c) of the Act.¹⁴ Since the Preliminary Results, no interested party has submitted any evidence or comments that challenge the Department's calculation of the PRC-Wide Rate. Therefore, we will continue to apply a rate of 187.25 percent to the PRC-Wide Entity.

¹² The companies that did not cooperate were Shaoxing Liangbao; Pu Jiang; Shaoxing Shunji; Shaoxing Zhongbao; Shangyu Baoxiang; and Lucky Hanger.

¹³ Id.

¹⁴ Id., at “Corroboration of Information” section.

Final Results of the Administrative Review

The weighted-average dumping margins for the POR are as follows:

Exporter | Weighted- average dumping margin (percent)
Shanghai Wells Group ¹⁵ | 0.00
PRC-Wide Entity ¹⁶ | 187.25

¹⁵ The Shanghai Wells Group consists of Shanghai Wells Hanger Co., Ltd., and Hong Kong Wells Ltd.

¹⁶ The PRC-Wide Entity includes, among other companies, Shaoxing Liangbao; Pu Jiang; Shaoxing Shunji; Shaoxing Zhongbao; Shangyu Baoxiang; and Lucky Hanger.

Disclosure

We will disclose the calculations performed within five days of the date of publication of this notice to parties in this proceeding in accordance with 19 CFR 351.224(b).

Assessment Rates

Pursuant to section 751(a)(2)(A) of the Act and 19 CFR 351.212(b), the Department will determine, and U.S. Customs and Border Protection (“CBP”) shall assess, antidumping duties on all appropriate entries of subject merchandise in accordance with the final results of this review. The Department intends to issue assessment instructions to CBP 15 days after the date of publication of these final results of review. In these final results, the Department applied the assessment rate calculation method adopted in Final Modification for Reviews, i.e., on the basis of monthly average-to-average comparisons using only the transactions associated with that importer with offsets being provided for non-dumped comparisons.¹⁷

¹⁷ See Antidumping Proceeding: Calculation of the Weighted-Average Dumping Margin and Assessment Rate in Certain Antidumping Proceedings; Final Modification, 77 FR 8101, 8103 (February 14, 2012) (“Final Modification for Reviews”).

Where the respondent has reported reliable entered values, we calculated importer (or customer)-specific ad valorem rates by aggregating the dumping margins calculated for all U.S. sales to each importer (or customer) and dividing this amount by the total entered value of the sales to each importer (or customer).¹⁸ Where an importer- (or customer-) specific ad valorem is greater than de minimis, the Department will instruct CBP to collect the appropriate duties at the time of liquidation.¹⁹ Where an importer- (or customer-) specific ad valorem is zero or de minimis, the Department will instruct CBP to liquidate appropriate entries without regard to antidumping duties.²⁰

¹⁸ See 19 CFR 351.212(b)(1).

¹⁹ See id.

²⁰ See 19 CFR 351.106(c)(2).

Cash Deposit Requirements

The following cash deposit requirements will be effective upon publication of the final results of this administrative review for all shipments of the subject merchandise entered, or withdrawn from warehouse, for consumption on or after the publication date, as provided by section 751(a)(2)(C) of the Act: (1) For the Shanghai Wells Group, the cash deposit rate will be its respective rates established in the final results of this review, except if the rate is zero or de minimis no cash deposit will be required; (2) for previously investigated or reviewed PRC and non-PRC exporters not listed above that have a separate rate, the cash deposit rate will continue to be the exporter-specific rate published for the most recent period; (3) for all PRC exporters of subject merchandise which have not been found to be entitled to a separate rate, the cash deposit rate will be the PRC-wide rate of 187.25 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: May 7, 2013.
Paul Piquado,
Assistant Secretary for Import Administration.

Appendix—Issues and Decision Memorandum

Comment I: Selection of the Surrogate Country

A. Economic Comparability

B. Significant Producer of Comparable Merchandise

C. Data Considerations

D. Financial Statements

Comment II: If the Department Continues to Select the Philippines as the Primary Surrogate Country, the Department Must Revise the Value of the Wire Rod and Change the Financial Ratios

Comment III: Treatment of Mandatory Respondents That Did Not Participate

[FR Doc. 2013-11682 Filed 5-15-13; 8:45 am]

BILLING CODE 3510-DS-P